NUCLEAR REGULATORY COMMISSION

[Docket No. 50-400 License No. NPF-63]

Carolina Power & Light Company; Notice of Issuance of Director's Decision Under 10 CFR 2.206

Notice is hereby given that the Director of the Office of Nuclear Reactor Regulation has issued a director's decision with regard to a petition dated September 20, 2006, filed by Mr. John D. Runkle, attorney for North Carolina Waste Awareness and Reduction Network and numerous other organizations, hereinafter referred to as the “Petitioners.” The petition was supplemented by documents dated September 21, October 30, November 29, 2006, and February 8, 2007. The petition concerns longstanding fire protection issues at the Shearon Harris Nuclear Power Plant (SHNPP or the Licensee).

The Petitioners requested that the Nuclear Regulatory Commission (NRC) staff take enforcement action in the form of an order that would revoke SHNPP's operating license or impose maximum fines for each violation for each day the plant has been in violation of fire protection regulations.

As the basis for this request, the Petitioners discussed several fire safety issues at SHNPP that they believe could affect the safe operation of the plant and safe shutdown of the plant in emergency situations. The Petitioners' concerns focused on noncompliances, the risk associated with the noncompliances, reliance on compensatory measures, the NRC's policy on the use of enforcement discretion regarding certain fire protection issues, and intentional acts of sabotage or terrorism.

On November 13, 2006, the NRC conducted a public meeting at NRC headquarters regarding fire protection issues at SHNPP. The meeting gave the Petitioners and the SHNPP Licensee an opportunity to provide additional information to the NRC's Petition Review Board and to clarify issues raised in the petition.

The NRC staff sent a copy of the proposed Director's Decision to the Petitioners and to the SHNPP Licensee for comment by letters dated April 2, 2007. The Petitioners and the Licensee submitted comments by letters dated May 1, 2007, and these comments are addressed in the final Director's Decision.

The Director of the Office of Nuclear Reactor Regulation has determined that the requests to revoke SHNPP's Operating License or impose maximum fines for each violation for each day the plant has been in violation of fire protection regulations are denied. The reasons for this decision are explained in the Director's Decision pursuant to Title 10 of the Code of Federal Regulations (10 CFR) Section 2.206 (DD-07-03), the complete text of which is available in ADAMS for inspection at the Commission's Public Document Room, located at One White Flint North, Public File Area O1 F21, 11555 Rockville Pike (first floor), Rockville, Maryland, and from the ADAMS Public Library component on the NRC's Web site, http://www.nrc.gov/reading-rm.html (the Public Electronic Reading Room) using Accession Number ML071490145.

In summary, the Director's Decision denies the Petitioners' requests due to the determination by the NRC staff that the plant may continue operation and the Licensee's efforts to transition to the risk-informed, performance-based standards in 10 CFR 50.48(c). In addition, the Licensee is actively identifying and completing corrective actions, including plant modifications and reanalysis efforts associated with meeting the new standards in 10 CFR 50.48(c), and has in place compensatory measures to account for existing noncompliances. The Licensee continues to have available several levels of defense-in-depth in fire protection. The Licensee has been granted enforcement discretion under the NRC's “Interim Enforcement Policy Regarding Enforcement Discretion for Certain Fire Protection Issues (10 CFR 50.48(c)).” The NRC has followed and continues to follow existing regulatory processes, policies and programs to verify that the Licensee is properly implementing its fire protection program at SHNPP in accordance with NRC rules and regulations.

A copy of the director's decision will be filed with the Secretary of the Commission for the Commission's review in accordance with 10 CFR 2.206 of the Commission's regulations. As provided for by this regulation, the director's decision will constitute the final action of the Commission 25 days after the date of the decision, unless the Commission, on its own motion, institutes a review of the director's decision in that time.

Dated at Rockville, Maryland, this 13 day of June, 2007.
For the Nuclear Regulatory Commission.
James T. Wiggins,
Acting Director, Office of Nuclear Reactor Regulation.

[FR Doc. E7-11814 Filed 6-18-07; 8:45 am]

BILLING CODE 7590-01-P